DEPARTMENT OF AGRICULTURE

Agricultural Marketing Service

[Docket No. LS-03-06]

Request for an Extension of and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension for and revision to a currently approved information collection for the Federal Seed Act Labeling and Enforcement.

DATES: Comments received by September 15, 2003 will be considered.

ADDITIONAL INFORMATION OR COMMENTS: Contact Richard C. Payne, Chief, Seed Regulatory and Testing Branch, Livestock and Seed Program, Agricultural Marketing Service, U.S. Department of Agriculture, 801 Summit Crossing Place, Suite C, Gastonia, North Carolina 28054-2193; telephone (704) 810-8871, fax (704) 852-4189.

SUPPLEMENTARY INFORMATION: Title: Federal Seed Act Program.

OMB Number: 0581-0026.

Expiration Date of Approval: March 31, 2004.

Type of Request: Extension and revision of currently approved information collection.

Abstract: This information collection and recordkeeping requirements are necessary to conduct the FSA (7 U.S.C. 1551, et seq.) program with respect to certain testing, labeling, and recordkeeping requirements of agricultural and vegetable seeds in interstate commerce.

The FSA, Title II, is a truth-in-labeling law that regulates agricultural and vegetable planting seed in interstate commerce. Seed subject to the FSA must be labeled with certain quality information and it requires that information to be truthful. The Act prohibits the interstate shipment of falsely advertised seed and seed containing noxious-weed seeds that are prohibited from sale in the State into which the seed is being shipped.

Besides providing farmers and other seed buyers with information necessary to make an informed choice and protect the buyer from buying mislabeled seed, the FSA promotes fair competition within the seed industry. It also encourages uniformity in labeling, aiding the movement of seed between the States. Because seed moving in interstate commerce must be labeled according to the FSA, most State laws have seed labeling requirements similar to those of the FSA, causing more uniformity of State laws.

Although anyone can submit a complaint to the SRTB, the FSA is primarily enforced through cooperative agreements with the States. State seed inspectors inspect and sample seed where it is being sold. They send a sample of the seed and a copy of the labeling to the State seed laboratory where the sample is tested and the analysis compared with the label. When violations are found, State personnel may take corrective action such as issuing a stop sale order to keep the seed from being sold until it is correctly labeled or otherwise disposed of. They may also take action against the shipper or labeler of the seed. The action a State may take against a shipper in another State is limited. Therefore, violations involving interstate shipments may be turned over to AMS for Federal action.

AMS investigates the complaints. The investigation normally involves check testing the State's official sample and possibly the shipper's file sample at the Testing Section. The shipper's records are checked to establish that there was a violation of the FSA, responsibility for the violation, and the cause of the mislabeling, if possible. The investigation will help the shipper find and correct the problem causing the violation and help AMS to determine the appropriate regulatory action. Regulatory action is to take no action if the investigation finds the FSA was not violated, a letter of warning for less serious violations, or a monetary settlement for more serious violations.

No unique forms are required for this information collection. The FSA requires seed in interstate commerce to be tested and labeled. Once in a State, seed must comply with the testing and labeling requirements of the State seed law. The same test and labeling required by the FSA nearly always satisfies the State's testing and labeling requirements. Also the receiving, sales, cleaning, testing, and labeling records required by the FSA, are records that the shipper would normally keep in good business practice.

The information obtained under this information collection is the minimum information necessary to effectively carry out the enforcement of the FSA.

Estimate of Burden: Public reporting burden for this collection of information is estimated to average 2.13 hours per response.

Respondents: Interstate shippers and labelers of seed.

Estimated Number of Respondents: 2,679.

Estimated Number of Responses per Respondents: 6.42.

Estimated Total Annual Burden on Respondents: 36,602.

Comments Are Invited On: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Richard C. Payne, Chief, Seed Regulatory and Testing Branch, LS, AMS, USDA, 801 Summit Crossing Place, Suite C, Gastonia, North Carolina 28054-2193 or E-mail to richard.payne2@usda.gov. All comments received will be available for public inspection during regular business hours at the same address.

All responses to this notice will be summarized and included in the request for OMB approval. All comments will become a matter of public record.

Dated: July 9, 2003.
A.J. Yates,
Administrator, Agricultural Marketing Service.

[FR Doc. 03-17800 Filed 7-14-03; 8:45 am]

BILLING CODE 3410-02-P